ENVIRONMENTAL PROTECTION AGENCY

[EPA-HQ-OPPT-2019-0456; FRL-10821-01-OCSPP]

Agency Information Collection Activities; Proposed Renewal of an Existing ICR Collection and Request for Comment; Formaldehyde Standards for Composite Wood Products Act

AGENCY: Environmental Protection Agency (EPA).

ACTION: Notice.

SUMMARY: In compliance with the Paperwork Reduction Act (PRA), this document announces the availability of and solicits public comment on the following Information Collection Request (ICR) that EPA is planning to submit to the Office of Management and Budget (OMB): “Formaldehyde Standards for Composite Wood Products Act,” identified by EPA ICR No. 2446.04 and OMB Control No. 2070-0185. This ICR represents a renewal of an existing ICR that is currently approved through September 30, 2024. Before submitting the ICR to OMB for review and approval under the PRA, EPA is soliciting comments on specific aspects of the information collection that is summarized in this document. The ICR and accompanying material are available in the docket for public review and comment.

DATES: Comments must be received on or before March 18, 2024.

ADDRESSES: Submit your comments, identified by docket identification (ID) number EPA-HQ-OPPT-2019-0456, through https://www.regulations.gov. Follow the online instructions for submitting comments. Do not submit electronically any information you consider to be Confidential Business Information (CBI) or other information whose disclosure is restricted by statute. Additional instructions on commenting or visiting the docket, along with more information about dockets generally, is available at http://www.epa.gov/dockets.

FOR FURTHER INFORMATION CONTACT: Katherine Sleasman, Mission Support Division (7602M), Office of Program Support, Office of Chemical Safety and Pollution Prevention, Environmental Protection Agency, 1200 Pennsylvania Ave., NW, Washington, DC 20460-0001; telephone number: (202) 556-1204; email address: sleasman.katherine@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What ICR does this action apply to?

Title: Formaldehyde Standards for Composite Wood Products Act.

EPA ICR No.: 2446.04.

OMB Control No.: 2070-0185.

ICR status: This ICR is currently approved through September 30, 2024. Under the PRA, an agency may not conduct or sponsor, and a person is not required to respond to, a collection of information, unless it displays a currently valid OMB control number. The OMB control numbers for EPA's regulations in title 40 of the Code of Federal Regulations (CFR), after appearing in the Federal Register when approved, are displayed either by publication in the Federal Register or by other appropriate means, such as on the related collection instrument or form, if applicable. The display of OMB control numbers for certain EPA regulations is consolidated in 40 CFR part 9.

Abstract: This ICR renewal covers the recordkeeping and reporting requirements for all aspects of the TSCA Title VI implementing regulations and regulations relating to accreditation bodies (ABs) and third-party certifiers (TPCs) that wish to participate in this third-party certification program.

Burden statement: The annual public reporting and recordkeeping burden for this collection of information is estimated to average 456,296 hours per response. Burden is defined in 5 CFR 1320.3(b). The ICR, which is available in the docket along with other related materials, provides a detailed explanation of the collection activities and the burden estimate that is only briefly summarized here:

Respondents/affected entities: Entities potentially affected by the ICR include respondents who are producers, fabricators, distributors, importers, retailers of regulated composite wood products and finished goods containing regulated composite wood products, as well as accreditation bodies and third-party certifiers. The Agency identifies these entities by North American Industrial Classification System (NAICS) codes that have been provided in the ICR to assist entities in determining whether the ICR might apply to them.

Respondent's obligation to respond: Mandatory, per 40 CFR 770.

Forms: 9600-049.

Frequency of response: Occasional.

Total estimated number of potential respondents: 881,597.

Total estimated average number of responses for each respondent: 1.4.

Total estimated annual burden hours: 456,296 hours.

Total estimated annual costs: $121.806,311. This includes an estimated burden cost of $9,461,560 and an estimated cost of $112,389,751 for capital investment or maintenance and operational costs.

III. Are there changes in the estimates from the last approval?

There is an overall increase of 371,503 hours for the total estimated combined respondent burden from that which is currently approved by OMB. This difference is due to adjustments in EPA's estimates of the costs and burden. Several adjustments to the estimates were made, including revisions to the estimates for producers, TPC and AB; and revisions to labor and cost estimates to reflect 2022 and 2023; and inclusion of 2,241 laminators still using resins that are expected to incur costs and burden starting in 2024.

In addition, OMB has requested that EPA move towards using the 18-question format for ICR Supporting Statements used by other federal agencies and departments and is based on the submission instructions established by OMB in 1995, replacing the alternate format developed by EPA and OMB prior to 1995. Accordingly, EPA updated the Supporting Statement for this ICR to reflect the 18-question format. In doing so, the Agency does not expect the change in format has resulted in substantive changes to the information collection activities or related estimated burden and costs. Comments are specifically sought on the format and presentation of the estimates.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: January 10, 2024.
Michal Freedhoff,
Assistant Administrator, Office of Chemical Safety and Pollution Prevention.

[FR Doc. 2024-00740 Filed 1-16-24; 8:45 am]

BILLING CODE 6560-50-P